Memorandum of April 29, 2016

Promoting Rehabilitation and Reintegration of Formerly Incarcerated Individuals

Memorandum for the Heads of Executive Departments and Agencies

America is a Nation of second chances. Promoting the rehabilitation and reintegration of individuals who have paid their debt to society makes communities safer by reducing recidivism and victimization; assists those who return from prison, jail, or juvenile justice facilities to become productive citizens; and saves taxpayer dollars by lowering the direct and collateral costs of incarceration. Policies that limit opportunities for people with criminal records create barriers to employment, education, housing, health care, and civic participation. This lack of opportunity decreases public safety, increases costs to society, and tears at the fabric of our Nation's communities.

Reducing the cycle of incarceration and recidivism requires coordinated action by government at all levels. Estimates are that as many as 70 million or more Americans have a record of arrest, criminal adjudication, or conviction. Each year, more than 600,000 individuals are released from Federal and State correctional facilities. Millions more are released each year from local jails. In many cases, a criminal record is an obstacle to obtaining employment or a license related to or necessary for employment. However, many individuals have criminal histories that should not automatically disqualify them from employment or licensing, but should instead be examined as part of a review of the person as a whole. Providing incarcerated individuals with job and life skills, education programming, and mental health and addiction treatment increases the likelihood that such individuals will be successful when released. And removing barriers to successful reentry helps formerly incarcerated individuals compete for jobs, attain stable housing, and support their families. All of these are critical to reducing recidivism and strengthening communities.

In 2011, the Attorney General formed the Federal Interagency Reentry Council, a Cabinet-level working group dedicated to the rehabilitation and reintegration of individuals returning to their communities from prisons and jails. I am issuing this memorandum to ensure that the Federal Government continues the important work of this council and builds on its successes.

By the authority vested in me as President by the Constitution and the laws of the United States of America, I hereby direct the following:

Section 1. Establishing the Federal Interagency Reentry Council. (a) There is hereby established the Federal Interagency Reentry Council (Reentry Council), to be co-chaired by the Attorney General and the Director of the White House Domestic Policy Council. In addition to the Co-Chairs, the Reentry Council shall include the heads of:

(i) the Department of the Treasury;

(ii) the Department of the Interior;

(iii) the Department of Agriculture;

(iv) the Department of Commerce;

(v) the Department of Labor;

(vi) the Department of Health and Human Services;

(vii) the Department of Housing and Urban Development;

(viii) the Department of Transportation;

(ix) the Department of Energy;

(x) the Department of Education;

(xi) the Department of Veterans Affairs;

(xii) the Department of Homeland Security;

(xiii) the Small Business Administration;

(xiv) the Office of Management and Budget;

(xv) the Council of Economic Advisers;

(xvi) the Office of National Drug Control Policy;

(xvii) the Office of Personnel Management;

(xviii) the Corporation for National and Community Service; and

(xix) such other executive departments, agencies, and offices as the Co-Chairs may designate.

(b) The Co-Chairs may also invite representatives of the Consumer Financial Protection Bureau, the Court Services and Offender Supervision Agency, the Equal Employment Opportunity Commission, the Federal Communications Commission, the Federal Deposit Insurance Corporation, the Federal Trade Commission, the Internal Revenue Service, and the Social Security Administration to participate in the activities of the Reentry Council to the extent that such activities are relevant to their respective statutory authorities and legal obligations.

(c) As appropriate, the Co-Chairs may invite relevant representatives of the judicial branch, including representatives of the United States Probation and Pretrial Services System and Federal Public Defender Organizations, to attend and participate in meetings of the Reentry Council.

(d) The Reentry Council shall work across executive departments, agencies, and offices (agencies) to:

(i) within 100 days of the date of this memorandum, develop and present a Federal strategic plan to make communities safer by reducing recidivism and victimization; assist individuals who return from prison or jail to become productive citizens; and save taxpayer dollars by lowering the direct and collateral costs of incarceration;

(ii) identify, implement, and promote evidence-based research, policies, strategies, and programming to support successful reentry and reintegration, including improved access to criminal justice data for research and evaluation purposes;

(iii) promote regional partnerships among Federal agencies and with State, tribal, and local governments and organizations to advance local reentry and reintegration efforts;

(iv) identify ways to improve the accuracy of records of arrest, criminal adjudication, or conviction (criminal records); and

(v) identify and address unwarranted barriers to successful reentry.

(e) The Reentry Council shall engage with Federal, State, local, and tribal officials, including corrections officials, as necessary to carry out its objectives. The Reentry Council shall engage with nongovernmental organizations, including those representing or composed of formerly incarcerated individuals, exonerees, victims, and criminal justice agencies, to ensure that these stakeholders have the opportunity to offer recommendations and information to the Reentry Council.

(f) The Attorney General shall designate an Executive Director, who is a full-time officer or employee of the Federal Government, to coordinate the day-to-day functions of the Reentry Council.

(g) The Co-Chairs shall convene a meeting of the Reentry Council at least once per year.

Sec. 2. Reducing Barriers to Employment. (a) Agencies making suitability determinations for Federal employment shall review their procedures for evaluating an applicant's criminal records to ensure compliance with 5 CFR part 731 and any related, binding guidance issued by the Office of Personnel Management, with the aim of evaluating each individual's character and conduct.

(b) Consistent with applicable law and the need to protect public safety, agencies with statutory authority to grant or deny occupational licenses and the discretion to define the criteria by which such licensing decisions are made shall undertake to revise their procedures to provide that such licenses are not denied presumptively by reason of an applicant's criminal record in the absence of a specific determination that denial of the license is warranted in light of all relevant facts and circumstances known to the agency, including:

(i) the nature and seriousness of the conduct resulting in the criminal record, including the circumstances surrounding the conduct and contributing societal conditions and the age of the individual at the time of the conduct;

(ii) the time that has passed since the individual's arrest, adjudication, or conviction, or the completion of the individual's sentence, and the absence or presence of rehabilitation efforts; and

(iii) the nature of the occupation requiring a license, including whether the criminal record is directly related to the occupation, whether the occupation offers the opportunity for the same or a similar offense to occur, and whether circumstances leading to the conviction will recur in the occupation.

(c) Independent agencies are encouraged to comply with the requirements of this section.

Sec. 3. General Provisions. (a) Nothing in this memorandum shall be construed to impair or otherwise affect:

(i) the authority granted by law to an executive department, agency, entity, office, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

Sec. 4. Publication. The Attorney General is hereby authorized and directed to publish this memorandum in the Federal Register.

THE WHITE HOUSE,

Washington, April 29, 2016

[FR Doc. 2016-10662

Filed 5-3-16; 11:15 am]

Billing code 4410-19-P